DEPARTMENT OF TRANSPORTATION

Office of the Secretary of Transportation

[DOT-OST-2018-0210]

Traffic Safety and the 5.9 GHz Spectrum Conference

AGENCY: Office of the Secretary (OST), U.S. Department of Transportation (DOT).

ACTION: Notice of public meeting.

SUMMARY: The purpose of this notice is to inform the public that the U.S. Department of Transportation (DOT) is planning to hold a conference entitled Traffic Safety and the 5.9 GHz Spectrum on June 3, 2019 to seek input regarding Vehicle-to-Everything (V2X) Communications. This event is a critical element for the Department in identifying areas of common ground that can assist deployers and investors in V2X technologies in advancing the use of the 5.9 GHz spectrum for traffic safety and congestion mitigation. The Department seeks to gain a greater understanding of industry leaders' current and future investment strategies, as well as potential considerations for efficient use of spectrum that will foster greater opportunities for some level of interoperability and compatibility moving forward.

DATES: Meeting: The meeting will be held at U.S. DOT Headquarters, 1200 New Jersey Avenue SE, Washington, DC 20590, on Monday, June 3, 2019 from 1:00 p.m.-5:00 p.m. (Eastern Daylight Time). Further information concerning registration and the availability of the agenda can be found below in the SUPPLEMENTARY INFORMATION section. Comments: The Department has reopened the docket for comments associated with this meeting, which will close on Monday July 8, 2019. See the SUPPLEMENTARY INFORMATION section below for more information about written comments.

FOR FURTHER INFORMATION CONTACT: 5.9GHzSpectrum@dot.gov; Karen Van Dyke, 202-366-3180; Suzanne Sloan, 617-494-3282.

SUPPLEMENTARY INFORMATION:

Background

The Department has reviewed the comments that were recently submitted under the Request for Comments (RFC) on V2X Communications, DOT-OST-2018-0210, and understands the desire for greater stability on addressing the complex issues surrounding spectrum and use of the band. With over 75 connected vehicle projects in the U.S. alone, 54 currently operational, there is a need to identify a common path forward that ensures current deployments can continue without the risk of loss of investment and/or jeopardizing the intended safety and mobility benefits due to deployment delays.

Meeting Details

This conference is open to the general public by registration only. For those who would like to attend the conference, we request that you register no later than May 28, 2019. Please use the following link to register: [https://www.eventbrite.com/e/59-ghz-spectrum-conference-tickets-61242857034].

You must include:

• Name

• Organization

• Telephone number

• Mailing and email addresses

• Country of citizenship

The U.S. Department of Transportation is committed to providing equal access to this conference for all participants. If you need alternative formats or services because of a disability, please contact Karen Van Dyke or Suzanne Sloan (contact information above) with your request by close of business May 28, 2019.

Several days leading up to the conference, an email containing the agenda will be provided, as well as posted on https://www.transportation.gov/v2x. The Department will also be providing a livestream of the event, the link to which will be posted on https://www.transportation.gov/v2x shortly before the meeting. Further, the Department will include a transcript from the conference in the docket as soon as practicable following the conference.

Written Comments

How do I prepare and submit comments?

Your comments must be written and in English. To ensure that your comments are filed correctly in the docket, please include the docket number of this document in your comments.

Please submit one copy (two copies if submitting by mail or hand delivery) of your comments, including the attachments, to the docket following the instructions given above. Please note, if you are submitting comments electronically as a PDF (Adobe) file, we ask that the documents submitted be scanned using an Optical Character Recognition (OCR) process, thus allowing the agency to search and copy certain portions of your submissions.

Comments should be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Privacy Act: Except as provided below, all comments received into the docket will be made public in their entirety. The comments will be searchable by the name of the individual submitting the comment (or signing the comment, if submitted on behalf of an associations, business, labor union, etc.). You should not include information in your comment that you do not want to be made public You may review DOT's complete Privacy Act Statement in the Federal Register published on April 11, 2000 (65 FR 19477-78) or at https://www.transportation.gov/privacy.

How do I submit confidential business information?

Any submissions containing Confidential Information must be delivered to OST in the following manner:

• Submitted in a sealed envelope marked “confidential treatment requested”;

• Accompanied by an index listing the document(s) or information that the submitter would like the Departments to withhold. The index should include information such as numbers used to identify the relevant document(s) or information, document title and description, and relevant page numbers and/or section numbers within a document; and

• Submitted with a statement explaining the submitter's grounds for objecting to disclosure of the information to the public.

OST also requests that submitters of Confidential Information include a non-confidential version (either redacted or summarized) of those confidential submissions in the public docket. In the event that the submitter cannot provide a non-confidential version of its submission, OST requests that the submitter post a notice in the docket stating that it has provided OST with Confidential Information. Should a submitter fail to docket either a non-confidential version of its submission or to post a notice that Confidential Information has been provided, we will note the receipt of the submission on the docket, with the submitter's organization or name (to the degree permitted by law) and the date of submission.

Will the agency consider late comments?

U.S. DOT will consider all comments received before the close of business on the comment closing date indicated above under DATES. To the extent possible, the agency will also consider comments received after that date.

How can I read the comments submitted by other people?

You may read the comments received at the address given above. The hours of the docket are indicated above in the same location. You may also see the comments on the internet, identified by the docket number at the heading of this notice, at http://www.regulations.gov.

Issued this day of May 20, 2019, in Washington, DC under authority delegated at 49 CFR 1.99.

Diana Furchtgott-Roth,
Deputy Assistant Secretary for Research and Technology, U.S. Department of Transportation.

[FR Doc. 2019-10901 Filed 5-23-19; 8:45 am]

BILLING CODE 4910-9X-P